DEPARTMENT OF HEALTH AND HUMAN SERVICES

National Institutes of Health

National Center for Research Resources; Amended Notice of Meeting

Notice is hereby given of a change in the meeting of the National Center for Research Resources Special Emphasis Panel, October 15, 2008, 1 p.m. to October 15, 2008, 4 p.m., National Institutes of Health, One Democracy Plaza, 6701 Democracy Boulevard, Bethesda, MD 20892, which was published in the Federal Register on August 11, 2008, 73 FR N155.

The previously announced teleconference meeting will now be held as a regular meeting at the Hilton Washington/Rockville Hotel, 1750 Rockville Pike, Rockville, MD 20852. The meeting is closed to the public.

Dated: September 4, 2008.
Jennifer Spaeth,
Director, Office of Federal Advisory Committee Policy.

[FR Doc. E8-21038 Filed 9-10-08; 8:45 am]

BILLING CODE 4140-01-M